DEPARTMENT OF DEFENSE

Department of the Army; Corps of Engineers

Intent To Hold an Open Meeting of the South Dakota River Task Force Established by the Missouri River Restoration Act of 2000 (Title IX)

AGENCY: Department of the Army, U.S. Army Corps of Engineers, DoD.

ACTION: Notice of meeting.

SUMMARY: The duties of the Task Force are to prepare and approve a plan for the use of the funds made available under Title IX to promote conservation practices in the Missouri River watershed, control and remove the sediment from the Missouri River, protect recreation on the Missouri River from sedimentation, and protect Indian and non-Indian historical and cultural sites along the Missouri River from erosion.

DATES: South Dakota Missouri River Task Force established by the Missouri River Restoration Act of 2000 will hold a meeting on March 10, 2009, from 10 a.m. to 4 p.m.

ADDRESSES: The meeting will be held at the Holiday Inn Express located at 110 East Stanley Road in Fort Pierre, South Dakota 57532.

FOR FURTHER INFORMATION CONTACT: Laura Bentley at (402) 995-2714.

SUPPLEMENTARY INFORMATION: The objectives of the Task Force are to prepare and approve a plan for the use of the funds made available under Title IX, develop and recommend to the Secretary of the Army ways to implement critical restoration projects meeting the goals of the plan, and determine if these projects primarily benefit the Federal Government.

This meeting is open to the public. Any interested person may attend, appear before, or file statements with the task force; however, statements and questions should be submitted in advance. For additional information, contact Laura Bentley, U.S. Army Corps of Engineers, 1616 Capitol Avenue, Omaha, Nebraska 68102-4901, 402-995-2714.

Dated: February 3, 2009.
William D. Mulligan,
Chief, Civil Works Branch.

[FR Doc. E9-2809 Filed 2-9-09; 8:45 am]

BILLING CODE 3720-58-P